DEPARTMENT OF COMMERCE

International Trade Administration

University of Virginia, et al.; Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW., Washington, DC

Docket Number: 01-009. Applicant: University of Virginia, Charlottesville, VA 22904-4400. Instrument: Electron Microscope, Model JEM-1010. Manufacturer: JEOL Ltd., Japan. Intended Use: See notice at 66 FR 20637, April 24, 2001. Order Date: October 30, 2000.

Docket Number: 01-010. Applicant: University of Colorado, Boulder, CO 80309-0347. Instrument: Electron Microscope, Model Tecnai F20. Manufacturer: FEI Company, The Netherlands. Intended Use: See notice at 66 FR 21742, May 1, 2001. Order Date: December 21, 2000.

Comments: None received.

Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 01-14800 Filed 6-11-01; 8:45 am]

BILLING CODE 3510-DS-P